DEPARTMENT OF JUSTICE

Notice of Lodging Proposed Consent Decree

In accordance with Departmental Policy, 28 CFR 50.7, notice is hereby given that a proposed Consent Decree in United States v. Wright Brothers Construction Co. & Georgia Dep't of Transportation, No. 2:11-CV-321-WCO, was lodged with the United States District Court for the Northern District of Georgia on December 12, 2011.

The proposed Consent Decree concerns a complaint filed by the United States of America against Wright Brothers Construction Company, Inc., of Charleston, Tennessee and the State of Georgia's Department of Transportation to obtain injunctive relief and civil penalties against the defendants for violating sections 301 and 404 of the Clean Water Act, 33 U.S.C. 1311 and 1344. The proposed Consent Decree resolves these allegations by requiring the defendants to restore streams, purchase mitigation credits, and pay a civil penalty.

The Department of Justice will accept written comments relating to this proposed Consent Decree for thirty (30) days from the date of publication of this Notice. Please address comments to Andrew J. Doyle and Martha C. Mann, Attorneys, Environment and Natural Resources Division, Environmental Defense Section, P.O. Box 23986, Washington, DC 20026-3986, and refer to United States v. Wright Brothers Construction Co. & Georgia Dep't of Transportation, DJ #90-5-1-1-17946.

The proposed Consent Decree may be examined at the Clerk's Office, United States District Court for the Northern District of Georgia, 121 Spring Street SE., Room 201, Gainesville, GA 30501. In addition, the proposed Consent Decree may be examined electronically at http://www.justice.gov/enrd/Consent_Decrees.html.

Cherie L. Rogers,
Assistant Section Chief, Environmental Defense Section, Environment & Natural Resources Division.

[FR Doc. 2011-32225 Filed 12-15-11; 8:45 am]

BILLING CODE P